DEPARTMENT OF THE TREASURY

Internal Revenue Service

Open Meeting of the Taxpayer Advocacy Panel Toll-Free Phone Line Project Committee; Correction

AGENCY: Internal Revenue Service (IRS), Treasury Department.

ACTION: Notice of meeting; correction

SUMMARY: In the Federal Register notice that was originally published on December 10, 2014, (Volume 79, Number 237, Page 73404) the meeting location was inadvertently omitted. The location of the meeting is: Atlanta, Georgia.

DATES: The meetings will be held Monday, January 12, 2015 through Tuesday, January 13, 2015.

FOR FURTHER INFORMATION CONTACT: Linda Rivera at 1-888-912-1227 or (202) 317-3337.

SUPPLEMENTARY INFORMATION: Notice is hereby given pursuant to Section 10(a)(2) of the Federal Advisory Committee Act, 5 U.S.C. App. (1988) that an open meeting of the Taxpayer Advocacy Panel Toll-Free Phone Line Project Committee will be held Monday, January 12, 2015, from 1:00 p.m. to 4:30 p.m. and Tuesday, January 13, 2015, from 8:00 a.m. to 4:30 p.m. Eastern Time in Atlanta, Georgia. Notification of intent to participate must be made with Linda Rivera. For more information please contact: Linda Rivera at 1-888-912-1227 or (202)317-3337, or write TAP Office, 1111 Constitution Avenue NW., Room 1509—National Office, Washington, DC 20224, or contact us at the Web site: http://www.improveirs.org.

The committee will be discussing Toll-free issues and public input is welcomed.

December 16, 2014.
Otis Simpson,
Acting Director, Taxpayer Advocacy Panel.

[FR Doc. 2014-29936 Filed 12-22-14; 8:45 am]

BILLING CODE 4830-01-P